DEPARTMENT OF ENERGY

Federal Energy Regulatory Commission

Combined Notice of Filings #1

Take notice that the Commission received the following electric corporate filings:

Docket Numbers: EC24-69-000.

Applicants: ECP ControlCo, LLC.

Description: Application for Authorization Under Section 203 of the Federal Power Act of ECP ControlCo, LLC.

Filed Date: 4/11/24.

Accession Number: 20240411-5194.

Comment Date: 5 p.m. ET 5/2/24.

Take notice that the Commission received the following Complaints and Compliance filings in EL Dockets:

Docket Numbers: EL24-98-000.

Applicants: California Independent System Operator Corporation, PacifiCorp.

Description: Petition for Approval of Uncontested Settlement Agreement of California Independent System Operator Corporation, et. al.

Filed Date: 4/3/24.

Accession Number: 20240403-5202.

Comment Date: 5 p.m. ET 4/24/24.

Take notice that the Commission received the following electric rate filings:

Docket Numbers: ER21-2818-004.

Applicants: Tri-State Generation and Transmission Association, Inc.

Description: Compliance filing: Revisions on Compliance to Rate Schedule No. 281 to be effective 11/1/2021.

Filed Date: 4/12/24.

Accession Number: 20240412-5260.

Comment Date: 5 p.m. ET 5/3/24.

Docket Numbers: ER23-628-004.

Applicants: Bellflower Solar 1, LLC.

Description: Compliance filing: Informational Filing Pursuant to Schedule 2 of the PJM Interconnection, to be effective N/A.

Filed Date: 4/12/24.

Accession Number: 20240412-5257.

Comment Date: 5 p.m. ET 5/3/24.

Docket Numbers: ER24-19-003.

Applicants: Cottontail Solar 1, LLC.

Description: Compliance filing: Informational Filing Pursuant to Schedule 2 of the PJM Interconnection to be effective N/A.

Filed Date: 4/12/24.

Accession Number: 20240412-5262.

Comment Date: 5 p.m. ET 5/3/24.

Docket Numbers: ER24-20-004.

Applicants: Cottontail Solar 2, LLC.

Description: Compliance filing: Informational Filing Pursuant to Schedule 2 of the PJM Interconnection, to be effective N/A.

Filed Date: 4/12/24.

Accession Number: 20240412-5265.

Comment Date: 5 p.m. ET 5/3/24.

Docket Numbers: ER24-21-003.

Applicants: Cottontail Solar 8, LLC.

Description: Compliance filing: Informational Filing Pursuant to Schedule 2 of the PJM Interconnection to be effective N/A.

Filed Date: 4/12/24.

Accession Number: 20240412-5280.

Comment Date: 5 p.m. ET 5/3/24.

Docket Numbers: ER24-942-001.

Applicants: Cottontail Solar 4, LLC.

Description: Compliance filing: Informational Filing Pursuant to Schedule 2 of the PJM Interconnection to be effective N/A.

Filed Date: 4/12/24.

Accession Number: 20240412-5268.

Comment Date: 5 p.m. ET 5/3/24.

Docket Numbers: ER24-943-002.

Applicants: Cottontail Solar 5, LLC.

Description: Compliance filing: Informational Filing Pursuant to Schedule 2 of the PJM Interconnection, to be effective N/A.

Filed Date: 4/12/24.

Accession Number: 20240412-5272.

Comment Date: 5 p.m. ET 5/3/24.

Docket Numbers: ER24-945-001.

Applicants: Cottontail Solar 6, LLC.

Description: Compliance filing: Informational Filing Pursuant to Schedule 2 of the PJM Interconnection to be effective N/A.

Filed Date: 4/12/24.

Accession Number: 20240412-5275.

Comment Date: 5 p.m. ET 5/3/24.

Docket Numbers: ER24-1145-001.

Applicants: Tri-State Generation and Transmission Association, Inc.

Description: Compliance filing: Revisions on Compliance to United Power Withdrawal Agreement to be effective 4/1/2024.

Filed Date: 4/12/24.

Accession Number: 20240412-5238.

Comment Date: 5 p.m. ET 5/3/24.

Docket Numbers: ER24-1749-000.

Applicants: Public Service Company of New Mexico.

Description: 205(d) Rate Filing: Certificates of Concurrence to be effective 3/21/2012.

Filed Date: 4/12/24.

Accession Number: 20240412-5282.

Comment Date: 5 p.m. ET 5/3/24.

Docket Numbers: ER24-1750-000.

Applicants: PacifiCorp.

Description: 205(d) Rate Filing: Surplus Large Gen Interconnect Agrmt (Granite East—SA No. 1110) to be effective 4/16/2024.

Filed Date: 4/15/24.

Accession Number: 20240415-5065.

Comment Date: 5 p.m. ET 5/6/24.

Docket Numbers: ER24-1751-000.

Applicants: PacifiCorp.

Description: 205(d) Rate Filing: Surplus Large Gen Interconnect Agrmt (Granite West—SA No. 1111) to be effective 4/16/2024.

Filed Date: 4/15/24.

Accession Number: 20240415-5069.

Comment Date: 5 p.m. ET 5/6/24.

Docket Numbers: ER24-1752-000.

Applicants: PacifiCorp.

Description: 205(d) Rate Filing: Surplus Large Gen Interconnect Agrmt (Iron Springs—SA No. 1112) to be effective 4/16/2024.

Filed Date: 4/15/24.

Accession Number: 20240415-5072.

Comment Date: 5 p.m. ET 5/6/24.

Docket Numbers: ER24-1753-000.

Applicants: Duke Energy Florida, LLC.

Description: 205(d) Rate Filing: DEF-FMPA FMPP Northern Star Rate Schedule No. 436—Reimbursement Agmt to be effective 7/1/2024.

Filed Date: 4/15/24.

Accession Number: 20240415-5091.

Comment Date: 5 p.m. ET 5/6/24.

Docket Numbers: ER24-1754-000.

Applicants: Southwest Power Pool, Inc.

Description: 205(d) Rate Filing: Revisions to Modify the Uninstructed Resource Deviation Charge to be effective 12/31/9998.

Filed Date: 4/15/24.

Accession Number: 20240415-5117.

Comment Date: 5 p.m. ET 5/6/24.

Docket Numbers: ER24-1755-000.

Applicants: Alabama Power Company, Georgia Power Company, Mississippi Power Company.

Description: 205(d) Rate Filing: Alabama Power Company submits tariff filing per 35.13(a)(2)(iii: Shelby Solar Park LGIA Amendment Filing to be effective 4/2/2024.

Filed Date: 4/15/24.

Accession Number: 20240415-5138.

Comment Date: 5 p.m. ET 5/6/24.

Docket Numbers: ER24-1756-000.

Applicants: Alabama Power Company, Georgia Power Company, Mississippi Power Company.

Description: 205(d) Rate Filing: Alabama Power Company submits tariff filing per 35.13(a)(2)(iii: Sawmill Junction Solar Park A&R LGIA Amendment Filing to be effective 4/4/2024.

Filed Date: 4/15/24.

Accession Number: 20240415-5139.

Comment Date: 5 p.m. ET 5/6/24.

Docket Numbers: ER24-1757-000.

Applicants: Tri-State Generation and Transmission Association, Inc.

Description: 205(d) Rate Filing: Certificate of Concurrence for PNM Subentity Reserve Sharing Agreement to be effective 4/1/2024.

Filed Date: 4/15/24.

Accession Number: 20240415-5173.

Comment Date: 5 p.m. ET 5/6/24.

Docket Numbers: ER24-1758-000.

Applicants: AEP Texas Inc.

Description: 205(d) Rate Filing: AEPTX-Oncor Regency Facilities Development Agreement to be effective 3/22/2024.

Filed Date: 4/15/24.

Accession Number: 20240415-5188.

Comment Date: 5 p.m. ET 5/6/24.

Docket Numbers: ER24-1759-000.

Applicants: AEP Texas Inc.

Description: 205(d) Rate Filing: AEPTX-CGRP 10 (Copano & Port Bay Solar) Interconnection Agreement to be effective 3/26/2024.

Filed Date: 4/15/24.

Accession Number: 20240415-5210.

Comment Date: 5 p.m. ET 5/6/24.

Docket Numbers: ER24-1760-000.

Applicants: PJM Interconnection, L.L.C.

Description: 205(d) Rate Filing: Amended ISA, Service Agreement No. 6876; AC2-141 to be effective 6/17/2024.

Filed Date: 4/15/24.

Accession Number: 20240415-5217.

Comment Date: 5 p.m. ET 5/6/24.

Take notice that the Commission received the following electric securities filings:

Docket Numbers: ES24-32-000.

Applicants: Louisville Gas and Electric Company.

Description: Application Under Section 204 of the Federal Power Act for Authorization to Issue Securities of Louisville Gas and Electric Company.

Filed Date: 4/12/24.

Accession Number: 20240412-5353.

Comment Date: 5 p.m. ET 5/3/24.

Docket Numbers: ES24-33-000.

Applicants: Kentucky Utilities Company.

Description: Application Under Section 204 of the Federal Power Act for Authorization to Issue Securities of Kentucky Utilities Company.

Filed Date: 4/12/24.

Accession Number: 20240412-5354.

Comment Date: 5 p.m. ET 5/3/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 15, 2024.
Debbie-Anne A. Reese,
Acting Secretary.

[FR Doc. 2024-08461 Filed 4-19-24; 8:45 am]

BILLING CODE 6717-01-P